DEPARTMENT OF COMMERCE

Bureau of the Census

[Docket Number 040127025-4025-01]

Privacy Impact Assessments

AGENCY: Bureau of the Census, Commerce.

ACTION: Notice.

SUMMARY: Consistent with the objectives of the E-Government Act and to ensure the continued trust of our constituency, on February 3, 2004, the Census Bureau is releasing to the public twenty (20) Privacy Impact Assessments (PIAs).

DATES: The Census Bureau makes its 20 PIAs available to the public on February 3, 2004.

ADDRESSES: Direct all written comments to the Director, U.S. Census Bureau, Room 2049-0100, Federal Building 3, Washington, DC 20233.

FOR FURTHER INFORMATION CONTACT: Jared Gerstenbluth, Policy Office, on (301) 763-2654 or by e-mail at Jared.Gerstenbluth@census.gov. Please visit http://www.census.gov/po/pia to obtain additional information and to obtain copies of the Census Bureau's PIAs.

SUPPLEMENTARY INFORMATION: The Census Bureau's 20 PIAs were submitted during the fiscal year 2005 budget process. The PIAs cover privacy, confidentiality, security, and data access and dissemination issues.

PIAs are designed to help us carry-out our mission and to help us meet our legal requirements. Our mission is to collect high-quality data and our legal requirement is to protect the confidentiality of identifiable data. The Census Bureau PIAs do this by assessing programs against the Data Stewardship program, Privacy Principles, and supporting policies.

The purpose of PIAs is to ensure that no collection, storage, access, use, or dissemination of identifiable personal information occurs without proof of need and purpose and to ensure that appropriate security procedures and controls on the use of the data are in place. The PIAs offered the Census Bureau an opportunity to affirm that it is using its legal and policy protections to ensure that data are being collected and used in a manner that honors privacy and protects confidentiality while producing the highest quality statistical data products for the Nation.

A full PIA was conducted on each program that contains, at some point in the collection and processing activities, Personally Identifiable Information (PII), Identifiable Business Information (IBI), or both. Identifiable information is defined as information that actually identifies people or businesses. Examples of PII include name, address, or social security number. Examples of IBI include employer identification number or e-mail address.

The following is a list of the PIAs that will be made publically available as of February 3, 2004:

1. American Community Survey.

2. Import and Export Statistics (Automated Export System).

3. Building Permits Programs.

4. Center for Economic Studies.

5. Continuity of Data Processing Operations and Data Security.

6. Mandatory Economic Surveys.

7. Data Access and Dissemination Systems.

8. Data Processing Update Systems.

9. Decennial 2010.

10. Demographic Surveys Program.

11. Economic Census.

12. Exporter Database.

13. Field Support Systems.

14. Geographic Support Systems.

15. Governments Programs.

16. Longitudinal Employer Household Dynamics Program.

17. Master Address File/Topologically Integrated Geographic Encoding and Referencing system (MAF/TIGER) Enhancements Program.

18. Survey of Business Owners.

19. Vehicle Inventory and Use Survey.

20. Voluntary Economic Surveys.

For more detailed information and to obtain a copy of any or all of the Census Bureau PIAs, please visit http://www.census.gov/po/pia. The PIAs will be available via mail, e-mail, or facsimile based on the requester's preference.

Dated: February 2, 2004.
Charles Louis Kincannon,
Director, Bureau of the Census.

[FR Doc. 04-2538 Filed 2-4-04; 8:45 am]

BILLING CODE 3510-07-P